DEPARTMENT OF AGRICULTURE

Animal and Plant Health Inspection Service

[Docket No. APHIS-2010-0032]

Determination of Pest-Free Areas in Mendoza Province, Argentina; Request for Comments

AGENCY: Animal and Plant Health Inspection Service, USDA.

ACTION: Notice.

SUMMARY: We are advising the public that we have received a request from the Government of Argentina to recognize additional areas as pest-free areas for South American fruit fly (Anastrepha fraterculus) and all other economically important species of Anastrepha. After reviewing the documentation submitted in support of this request, the Administrator of the Animal and Plant Health Inspection Service has determined that these areas meet the criteria in our regulations for recognition as pest-free areas. We are making that determination, as well as the evaluation document we have prepared in connection with this action, available for review and comment.

DATES: We will consider all comments that we receive on or before October 18, 2011.

ADDRESSES: You may submit comments by either of the following methods:

• Federal eRulemaking Portal: Go to http://www.regulations.gov/#!documentDetail;D=APHIS-2010-0032-0005.

• Postal Mail/Commercial Delivery: Send your comment to Docket No. APHIS-2010-0032, Regulatory Analysis and Development, PPD, APHIS, Station 3A-03.8, 4700 River Road Unit 118, Riverdale, MD 20737-1238.

Supporting documents and any comments we receive on this docket may be viewed at http://www.regulations.gov/#!docketDetail;D=APHIS-2010-0032 or in our reading room, which is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: Ms. Meredith C. Jones, Regulatory Coordination Specialist, Regulatory Coordination and Compliance, APHIS, 4700 River Road Unit 156, Riverdale, MD 20737; (301) 734-7467.

SUPPLEMENTARY INFORMATION: Under the regulations in “Subpart-Fruits and Vegetables” (7 CFR 319.56-1 through 319.56-51, referred to below as the regulations), the Animal and Plant Health Inspection Service (APHIS) of the U.S. Department of Agriculture prohibits or restricts the importation of fruits and vegetables into the United States from certain parts of the world to prevent plant pests from being introduced into and spread within the United States.

Section 319.56-4 of the regulations contains a performance-based process for approving the importation of commodities that, based on the findings of a pest risk analysis, can be safely imported subject to one or more of the designated phytosanitary measures listed in paragraph (b) of that section. One of the designated phytosanitary measures is that the fruits or vegetables are imported from a pest-free area in the country of origin that meets the requirements of § 319.56-5 for freedom from that pest and are accompanied by a phytosanitary certificate stating that the fruits or vegetables originated in a pest-free area in the country of origin.¹

¹ A list of pest-free-areas currently recognized by APHIS can be found at http://www.aphis.usda.gov/import_export/plants/manuals/ports/downloads/DesignatedPestFreeAreas.pdf.

Under the regulations in § 319.56-5, APHIS requires that determinations of pest-free areas be made in accordance with the criteria for establishing freedom from pests found in International Standards for Phytosanitary Measures (ISPM) No. 4, “Requirements For the Establishment of Pest Free Areas.” The international standard was established by the International Plant Protection Convention of the United Nations' Food and Agriculture Organization and is incorporated by reference in our regulations in 7 CFR 300.5. In addition, APHIS must also approve the survey protocol used to determine and maintain pest-free status, as well as protocols for actions to be performed upon detection of a pest. Pest-free areas are subject to audit by APHIS to verify their status.

APHIS received a request from the Government of Argentina to recognize an additional area of that country as being free of Ceratitis capitata, Mediterranean fruit fly (Medfly). Specifically, the Government of Argentina asked that we recognize the Southern and Central Oases in the southern half of Mendoza Province as an area that is free of Medfly.

In accordance with our process, we published a notice ² in the Federal Register on June 25, 2010 (75 FR 36347-36348, Docket No. APHIS-2010-0032), in which we announced the availability, for review and comment, of a commodity import evaluation document (CIED) that evaluates the information presented by Argentina in support of its request to recognize additional areas as pest-free areas for Mediterranean fruit fly (Ceratitis capitata) in Argentina. We solicited comments on the notice for 60 days ending on August 24, 2010. We received two comments by that date, one from a State agricultural official and the other from an official of Argentina's national plant protection organization (NPPO). The first commenter acknowledged Argentina's history of successful Medfly control efforts, but stated that APHIS should not relax its fruit fly-related restrictions until it can confirm that no other pest fruit flies-notably Anastrepha species fruit flies-are present in the area. The second commenter provided information to support a finding that the Mendoza Province is free of the South American fruit fly (Anastrepha fraterculus). As a result of these comments, APHIS contacted the Argentine NPPO, which requested that, in addition to the pest-free status for Ceratitis capitata, the Mendoza province of Argentina also be recognized as free of A. fraterculus.

² To view the notice and the comments we received, go to http://www.regulations.gov/fdmspublic/component/main?main=DocketDetail&d=APHIS-2010-0032.

In accordance with our regulations and the criteria set out in ISPM No. 4, we have reviewed and approved the survey protocols and other information provided by Argentina relative to its system to establish A. fraterculus freedom, phytosanitary measures to maintain freedom, and system for the verification of the maintenance of freedom. Because this action concerns the expansion of a currently recognized pest-free area in Argentina from which fruits and vegetables are authorized for importation into the United States, our review of the information presented by Argentina in support of its subsequent request to recognize the Mendoza province of Argentina as free of A. fraterculus is examined in a CIED titled “Recognition of additional Provinces as Anastrepha fraterculus Pest-Free Areas (PFA) for Argentina.”

The CIED may be viewed on the Regulations.gov Web site or in our reading room (see ADDRESSES above for instructions for accessing Regulations.gov and information on the location and hours of the reading room). You may request paper copies of the CIED by calling or writing to the person listed under FOR FURTHER INFORMATION CONTACT.

Therefore, in accordance with § 319.56-5(c), we are announcing the Administrator's determination that the Southern and Central Oases in the southern half of Mendoza Province meet the criteria of § 319.56-5(a) and (b) with respect to freedom from the South American fruit fly and all other economically important species of Anastrepha. After reviewing the comments we receive on this notice and taking into consideration the comments we received on our June 2010 notice regarding the areas' Medfly status, we will announce our decision regarding the status of these areas with respect to their freedom from Medfly and South American fruit fly. If the Administrator's determination remains unchanged, we will amend the list of pest-free areas to list Southern and Central Oases of the Mendoza Province of Argentina as free of Medfly and South American fruit fly.

Done in Washington, DC, this 15th day of August 2011.
Kevin Shea,
Acting Administrator, Animal and Plant Health Inspection Service.

[FR Doc. 2011-21213 Filed 8-18-11; 8:45 am]

BILLING CODE 3410-34-P